DEPARTMENT OF TRANSPORTATION

Federal Aviation Administration

Proposed Modification of the Philadelphia, PA, Class B Airspace Area; Public Meetings

AGENCY: Federal Aviation Administration (FAA), DOT.

ACTION: Notice of meetings; correction.

SUMMARY: This action corrects an error in the notice of meetings published in the Federal Register on Tuesday, November 30, 2010, concerning a proposal to revise Class B airspace at Philadelphia, PA. The name and phone number of the person to contact for further information has changed from that published in the notice.

SUPPLEMENTARY INFORMATION:

History

On Tuesday, November 30, 2010, a notice of meetings was published in the Federal Register concerning a proposal to revise Class B airspace at Philadelphia, PA (75 FR 74127). The name and phone number of the person to contact for further information has subsequently been changed. This action provides the correct information.

Correction

In notice of meetings FR Doc. 2010-30085, as published on November 30, 2010 (75 FR 74127) on page 74127, column two, make the following correction:

FOR FURTHER INFORMATION CONTACT: Dennis Sweeney, Philadelphia ATCT/TRACON, 15 Hog Island Road, Philadelphia, PA 19153; telephone: 215-492-4100, extension 287.

Issued in Washington, DC, on December 14, 2010.
Edith V. Parish,
Manager, Airspace, Regulations and ATC Procedures Group.

[FR Doc. 2010-32048 Filed 12-20-10; 8:45 am]

BILLING CODE 4910-13-P